DEPARTMENT OF HOMELAND SECURITY

U.S. Citizenship and Immigration Services

8 CFR Part 103

[Docket No. USCIS-2007-0040; CIS No. 2417-07]

RIN 1615-AB61

Removal of Temporary Adjustment of the Immigration and Naturalization Benefit Application and Petition Fee Schedule

AGENCY: U.S. Citizenship and Immigration Services, DHS.

ACTION: Final rule.

SUMMARY: This document amends the fee schedule for petitions and applications for immigration and naturalization benefits administered by U.S. Citizenship and Immigration Services. This rule re-adjusts the fees for Forms I-485, “Application to Register Permanent Residence or Adjust Status,” and applications for derivative benefits associated with Forms I-485. This rule removes the temporary adjustment of fees promulgated in previously and permits the application of the fees as were originally published in the final rule of May 30, 2007, that became effective on July 30, 2007.

DATES: Effective Date: This rule is effective August 18, 2007.

FOR FURTHER INFORMATION CONTACT: Efren Hernandez III, Business and Trade Services, Service Center Operations, U.S. Citizenship and Immigration Services, Department of Homeland Security, 111 Massachusetts Avenue, Suite 3000, Washington, DC 20529 telephone (202) 272-8400.

SUPPLEMENTARY INFORMATION:

I. Background

On May 30, 2007, USCIS published the final rule, effective July 30, 2007, “Adjustment of the Immigration and Naturalization Benefit Application and Petition Fee Schedule,” amending 8 CFR part 103 to prescribe new fees to fund the cost of processing applications and petitions for immigration and naturalization benefits and services, and USCIS' associated operating costs pursuant to section 286(m) of the Immigration and Nationality Act (INA), 8 U.S.C. 1356(m). 72 FR 29851. Then USCIS subsequently announced on July 17, 2007 that, beginning on as of that date and ending at the close of business on August 17, 2007, it will accept employment-based Forms I-485 filed by aliens whose priority dates are current under the Department of State's Visa Bulletin No. 107. Also, USCIS decided that aliens in employment-based categories filing applications pursuant to Visa Bulletin No. 107 should not be required to pay filing fees based on the fee schedule that was to become effective July 30, 2007, but, instead should be allowed to pay the fees that existed prior to July 30, 2007. This rule provides that the fee schedule that became effective for all immigration and naturalization petitions and applications as of July 30, will now apply for Forms I-485 filed pursuant to Visa Bulletin No. 107 and to all subsequent or “renewal” applications for advance parole and employment authorization based on pending Forms I-485 filed pursuant to Visa Bulletin No. 107. Applications that are submitted with the incorrect fee will be rejected.

Similarly, this rule amends the Biometric Services Fee that must accompany Forms I-485, or Forms I-131 or I-765 that are based on a pending I-485, that are submitted pursuant to Visa Bulletin No. 107 to set it at $80 as it is for all other benefits for which biometrics must be provided.

II. Informal Rulemaking Requirements

This rule relates to internal agency management, procedure, and practice and is temporary in nature. 5 U.S.C. 553(b)(A). This rule does not alter substantive criteria by which USCIS will approve or deny applications or determine eligibility for any immigration benefit, but relieves certain requirements for a definite period of time for specific applications. As a result, DHS is not required to provide the public with notice of a proposed rule and the opportunity to submit comments on the subject matter of this rule. DHS finds that good cause exists for adopting this final rule, without prior notice and public comment because the urgency of adopting this rule make prior notice and comment impractical and contrary to the public interest. 5 U.S.C. 553(b)(B).

This rule relates to internal agency management, and, therefore, is exempt from the provisions of Executive Order Nos. 12630, 12866, 12988, 13045, 13132, 13175, 13211, and 13272. Further, this action is not a rule as defined by the Regulatory Flexibility Act, 5 U.S.C. 601 et seq., and is therefore exempt from the provisions of that Act. In addition, this rule is not subject to the National Environmental Policy Act of 1969 (NEPA), 42 U.S.C. 4321 et seq., Title II of the Unfunded Mandates Reform Act of 1995, 2 U.S.C. Ch. 17A, 25, or the E-Government Act of 2002, 44 U.S.C. 3501, note.

DHS finds that good cause exists for promulgating this rule without delaying the effective date of the rule because the rule terminates a relief from a requirement of existing regulations that are adopted simultaneously with this rule. This rule must be adopted with an effective date commensurate with the adoption of the rule granting the relief from the requirements. 5 U.S.C. 553(d)(1). This rule is promulgated only in conjunction with the temporary relief from requirements in the rule previously published elsewhere in the Federal Register.

This rule does not affect any information collections, reporting or recordkeeping requirements under the Paperwork Reduction Act.

List of Subjects in 8 CFR Part 103

Administrative practice and procedures; Authority delegations (government agencies); Freedom of Information; Privacy; Reporting and recordkeeping requirements; and Surety bonds.

Accordingly, part 103 of chapter I of title 8 of the Code of Federal Regulations is amended as follows:

PART 103—POWERS AND DUTIES; AVAILABILITY OF RECORDS

1. The authority citation for part 103 continues to read as follows:

Authority: 5 U.S.C. 301, 552, 552(a); 8 U.S.C. 1101, 1103, 1304, 1356; 31 U.S.C. 9701; Public Law 107-296, 116 Stat. 2135 (6 U.S.C. 1 et seq.); E.O. 12356, 47 FR 14874, 15557; 3 CFR, 1982 Comp., p.166; 8 CFR part 2.

2. Section 103.7 is amended by revising the entries for “For capturing biometric information” and the entries for “Form I-131”, “Form I-485”, and “Form I-765” in paragraph (b)(1), to read as follows:

§ 103.7 Fees.

* * * * *

(b) * * *

(1) * * *

* * * * *

For capturing biometric information (Biometric Fee). A service fee of $80 will be charged for any individual who is required to have biometric information captured in connection with an application or petition for certain immigration and naturalization benefits (other than asylum), and whose residence is in the United States; provided that: Extension for intercountry adoptions: If applicable, no biometric service fee is charged when a written request for an extension of the approval period is received by USCIS prior to the expiration date of approval indicated on the Form I-171H if a Form I-600 has not yet been submitted in connection with an approved Form I-600A. This extension without fee is limited to one occasion. If the approval extension expires prior to submission of an associated Form I-600, then a complete application and fee must be submitted for a subsequent application.

* * * * *

Form I-131. For filing an application for travel document—$305.

* * * * *

Form I-485. For filing an application for permanent resident status or creation of a record of lawful permanent residence—$930 for an applicant fourteen years of age or older; $600 for an applicant under the age of fourteen years when submitted concurrently for adjudication with the Form I-485 of a parent and the applicant is seeking to adjust status as a derivative of the parent, based on a relationship to the same individual who provides the basis for the parent's adjustment of status, or under the same legal authority as the parent; no fee for an applicant filing as a refugee under section 209(a) of the Act; provided that no additional fee will be charged for a request for travel document (advance parole) or employment authorization filed by an applicant who has paid the Form I-485 application fee, regardless of whether the Form I-131 or Form I-765 is required to be filed by such applicant to receive these benefits.

* * * * *

Form I-765. For filing an application for employment authorization pursuant to 8 CFR 274a.13—$340.

* * * * *

Dated: July 27, 2007.
Michael Chertoff,
Secretary.

[FR Doc. E7-14973 Filed 8-16-07; 8:45 am]

BILLING CODE 4410-10-P